DEPARTMENT OF THE INTERIOR

Bureau of Land Management

[UT-910-07-1150-PH-24-1A]

Notice of Utah Resource Advisory Council Meeting

AGENCY: Bureau of Land Management, Department of Interior.

ACTION: Notice of Utah Resource Advisory Council (RAC) Meeting.

SUMMARY: In accordance with the Federal Land Policy and Management Act (FLPMA) and The Federal Advisory Committee Act of 1972 (FACA), the U.S. Department of the Interior, Bureau of Land Management's (BLM) Utah Resource Advisory Council (RAC) will meet as indicated below.

DATES: The Utah Resource Advisory Council (RAC) will meet September 14, 2007.

ADDRESSES: The RAC will meet at the Holiday Inn, San Rafael Conference Room, 838 Westwood Blvd., Price, Utah.

FOR FURTHER INFORMATION: Contact Sherry Foot, Special Programs Coordinator, Utah State Office, Bureau of Land Management, P.O. Box 45155, Salt Lake City, Utah, 84145-0155; phone (801) 539-4195.

SUPPLEMENTARY INFORMATION: On September 14, from 9 a.m. to 5 p.m., the RAC will be given recreation fee presentations from the BLM's Monticello Field Office and the Cleveland Lloyd Dinosaur Quarry. The U.S. Forest Service will present fee presentations for Mirror Lake, American Fork Canyon, and Flaming Gorge. BLM will provide an overview of its oil and gas leasing process. A public comment period, where members of the public may address the RAC, is scheduled from 4:15 p.m. to 4:45 p.m. Written comments may be sent to the Bureau of Land Management address listed above. All meetings are open to the public; however, transportation, lodging, and meals are the responsibility of the participating public.

Dated: July 12, 2007.
Selma Sierra,
State Director.

[FR Doc. E7-14054 Filed 7-19-07; 8:45 am]

BILLING CODE 4310-$$;-P